DEPARTMENT OF EDUCATION

Reopening; Application Period for Certain Applicants Under the Fiscal Year (FY) 2021 Educational Opportunity Centers Program Competition

AGENCY: Office of Postsecondary Education, Department of Education.

ACTION: Notice.

SUMMARY: The Department of Education (Department) reopens the competition for FY 2021, for certain eligible applicants described elsewhere in this notice, under the Educational Opportunity Centers program, Assistance Listing Number 84.066A. The Department takes this action to allow more time for the preparation and submission of applications by eligible applicants affected by the severe winter weather in Louisiana, Oklahoma, and Texas, where the President has issued a disaster declaration. The reopening of the application deadline date for this competition is intended to help affected eligible applicants compete fairly with other eligible applicants under this competition.

DATES:

Deadline for Transmittal of Applications for Applicants Meeting the Eligibility Criteria in this Notice: March 15, 2021.

Deadline for Intergovernmental Review: May 25, 2021.

FOR FURTHER INFORMATION CONTACT: Rachael Wiley, Ed.D., U.S Department of Education, 400 Maryland Avenue SW, Room 2C146, Washington, DC 20202-4260. Telephone: (202) 453-6078. Email: Rachael.Wiley@ed.gov.

If you use a telecommunications device for the deaf (TDD) or a text telephone (TTY), call the Federal Relay Service (FRS), toll free, at 1-800-877-8339.

SUPPLEMENTARY INFORMATION: On January 13, 2021, we published the notice inviting applications (NIA) for new awards for the FY 2021 Educational Opportunity Centers competition in the Federal Register (86 FR 2658). Under the NIA, applications were due on March 1, 2021.

We are reopening this competition for eligible applicants from affected areas in Louisiana, Oklahoma, and Texas, for which the President has issued a disaster declaration, to allow those applicants more time to prepare and submit applications. For applicants that meet the eligibility criteria in this notice, we are reopening the competition until March 15, 2021. We are also extending the intergovernmental review deadline until May 25, 2021.

Eligibility: The reopening of the competition in this notice applies to eligible applicants under the Educational Opportunity Centers program, Assistance Listing Number 84.066A, that are located in an area for which the President has issued an emergency declaration (see www.fema.gov/disasters/), in Louisiana (FEMA Disaster designation 3556), Oklahoma (FEMA Disaster designation 3555), and Texas (FEMA Disaster designation 3554).

In accordance with the NIA, eligible applicants for this competition are institutions of higher education, public and private agencies or organizations, including community-based organizations with experience in serving disadvantaged youth, secondary schools, and combinations of such institutions, agencies, and organizations, for planning, developing, or carrying out one or more of the services identified under this program.

Note: All information in the NIA for this competition remains the same, except for, with respect to eligible applicants, the deadline for the transmittal of applications and the deadline for intergovernmental review.

Program Authority: 20 U.S.C. 1070a-11 and 1070a-16.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document

Format (PDF). To use PDF you must have Adobe Acrobat Reader, which is available free at the site.

You may also access documents of the Department published in the Federal Register by using the article search feature at: www.federalregister.gov. Specifically, through the advanced search feature at this site, you can limit your search to documents published by the Department.

Tiwanda Burse,
Deputy Assistant Secretary for Management & Planning, Office of Postsecondary Education, Delegated authority to perform functions and duties of the Assistant Secretary for the Office of Postsecondary Education.

[FR Doc. 2021-04487 Filed 3-3-21; 8:45 am]

BILLING CODE 4000-01-P